SMALL BUSINESS ADMINISTRATION

[Disaster Declaration #12029 and #12030]

North Carolina Disaster #NC-00023

AGENCY: U.S. Small Business Administration.

ACTION: Amendment 1.

SUMMARY: This is an amendment of the Presidential declaration of a major disaster for Public Assistance Only for the State of North Carolina (FEMA—1871—DR), dated 02/02/2010.

Incident: Severe Winter Storms and Flooding.

Incident Period: 12/18/2009 through 12/25/2009.

DATES: Effective Date: 03/02/2010.

Physical Loan Application Deadline Date: 04/05/2010.

Economic Injury (EIDL) Loan Application Deadline Date: 11/02/2010

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of NORTH CAROLINA, dated 02/02/2010 is hereby amended to include the following areas as adversely affected by the disaster.

Primary Area: The eastern band of the Cherokee Indians Qualla Boundary Tribal Land. All other information in the original declaration remains unchanged.

(Catalog of Federal Domestic Assistance Numbers 59002 and 59008)

James E. Rivera,
Associate Administrator for Disaster Assistance.

[FR Doc. 2010-5254 Filed 3-10-10; 8:45 am]

BILLING CODE 8025-01-P